DEPARTMENT OF ENERGY

Federal Energy Regulatory Commission

Combined Notice of Filings

January 2, 2009.

Take notice that the Commission has received the following Natural Gas Pipeline Rate and Refund Report filings:

Docket Numbers: RP05-422-032.

Applicants: El Paso Natural Gas Company.

Description: El Paso Natural Gas Company's Supplemental Refund Report.

Filed Date: 12/30/2008.

Accession Number: 20081230-5044.

Comment Date: 5 p.m. Eastern Time on Monday, January 12, 2009.

Docket Numbers: RP06-200-050.

Applicants: Rockies Express Pipeline LLC.

Description: Rockies Express Pipeline LLC submits Third Revised Sheet 8B and 8C to FERC Gas Tariff, Second Revised Volume 1, to be effective 1/1/09.

Filed Date: 12/30/2008.

Accession Number: 20081231-0111.

Comment Date: 5 p.m. Eastern Time on Monday, January 12, 2009.

Docket Numbers: RP08-426-004.

Applicants: El Paso Natural Gas Company.

Description: El Paso Natural Gas Company submits Thirty-Sixth Revised Sheet 1 et al. to FERC Gas Tariff, Second Revised Volume 1A, to be effective 1/1/09.

Filed Date: 12/30/2008.

Accession Number: 20081231-0277.

Comment Date: 5 p.m. Eastern Time on Monday, January 12, 2009.

Docket Numbers: RP96-272-086.

Applicants: Northern Natural Gas Company.

Description: Northern Natural Gas Company submits Second Revised Sheet 66B.01a et al. to FERC Electric Gas Tariff, Fifth Revised Volume 1, effective 1/1/09.

Filed Date: 12/30/2008.

Accession Number: 20081231-0109.

Comment Date: 5 p.m. Eastern Time on Monday, January 12, 2009.

Docket Numbers: RP96-331-020.

Applicants: National Fuel Gas Supply Corporation.

Description: National Fuel Gas Supply Corporation submits Substitute Eighth Revised Sheet 12 and Fifth Revised Sheet 13 to FERC Gas Tariff, Fourth Revised Volume 1, to be effective 12/1/08.

Filed Date: 12/30/2008.

Accession Number: 20081231-0108.

Comment Date: 5 p.m. Eastern Time on Monday, January 12, 2009.

Docket Numbers: RP96-383-090.

Applicants: Dominion Transmission, Inc.

Description: Dominion Transmission, Inc submits Fourteenth Revised Sheet 1405 to FERC Gas Tariff, Third Revised Volume 1, to be effective 1/1/09.

Filed Date: 12/30/2008.

Accession Number: 20081231-0110.

Comment Date: 5 p.m. Eastern Time on Monday, January 12, 2009.

Docket Numbers: RP08-436-002.

Applicants: Stingray Pipeline Company, L.L.C.

Description: Stingray Pipeline Company, LLC submits substitute Fifth Revised Sheet No 103 to remove the incorrect reference to Fahrenheit to be effective 11/1/08.

Filed Date: 12/30/2008.

Accession Number: 20081231-0107.

Comment Date: 5 p.m. Eastern Time on Monday, January 12, 2009.

Docket Numbers: RP09-191-000.

Applicants: Florida Gas Transmission Company, LLC.

Description: Florida Gas Transmission Company, LLC submits the Annual Accounting Report of Revenues and Costs-System Balancing for the period August 2007 through July 2008.

Filed Date: 12/30/2008.

Accession Number: 20081231-0278.

Comment Date: 5 p.m. Eastern Time on Monday, January 12, 2009.

Docket Numbers: RP09-192-000.

Applicants: Dominion Cove Point LNG, LP.

Description: Dominion Cove Point LNG, LP submits Second Revised Sheet 24 et al. to FERC Gas Tariff, Original Volume 1, to be effective 1/29/09.

Filed Date: 12/30/2008.

Accession Number: 20081231-0279.

Comment Date: 5 p.m. Eastern Time on Monday, January 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-2564 Filed 2-5-09; 8:45 am]

BILLING CODE 6717-01-P